DEPARTMENT OF DEFENSE

Department of the Air Force

Record of Decision for the KC-46A Formal Training Unit (FTU) and First Main Operating Base (MOB 1) Beddown Final Environmental Impact Statement

ACTION: Notice of Availability (NOA) of a Record of Decision (ROD).

SUMMARY: On April 22, 2014, the United States Air Force signed the ROD for the KC-46A Formal Training Unit (FTU) and First Main Operating Base (MOB 1) Final Environmental Impact Statement (FEIS). The ROD states the Air Force decision to implement the Preffered Alternative to beddown eight (8) KC-46A Primary aircraft authorized (PAA) with associated construction at Altus Air Force Base (AFB) for the FTU and beddown thirtysix (36) KC-46A PAA with associated construction at McConnell AFB for MOB-1.

The decision was based on matters discussed in the FEIS, inputs from the public and regulatory agencies, and other relevant factors. The FEIS was made available to the public on March 21, 2014 through a NOA in the Federal Register (Volume 79, Number 55, Page 15741) with a wait period that ended on April 21, 2014. The ROD documents only the decision of the Air Force with respect to the proposed Air Force actions analyzed in the FEIS. Authority: This NOA is published pursuant to the regulations (40 CFR Part 1506.6) implementing the provisions of the NEPA of 1969 (42 U.S.C. 4321, et seq.) and the Air Force's Environmental Impact Analysis Process (EIAP) (32 CFR Parts 989.21(b) and 989.24(b)(7)).

FOR FURTHER INFORMATION CONTACT: Ms. Jean Reynolds, AFCEC/CZN, 2261 Hughes Ave., Ste 155. JBSA Lackland AFB, TX 78236-9853, ph: 210/925-4534.

Henry Williams,
Air Force Federal Register Liaison Officer.

[FR Doc. 2014-10176 Filed 5-2-14; 8:45 am]

BILLING CODE 5001-06-P